INTERNATIONAL TRADE COMMISSION

Tolling of Activity in Antidumping and Countervailing Duty Proceedings

AGENCY: United States International Trade Commission.

ACTION: Notice.

DATES: Effective Date: October 21, 2013.

FOR FURTHER INFORMATION CONTACT: Catherine DeFilippo (202-205-3160), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On September 30, 2013, the Commission posted a notification on its Web site, that if the Commission did not receive funding by 8:45 a.m. on October 1, 2013, the agency would shut down its investigative activities for the duration of the absence of an appropriation. The notice stated that if a shutdown occurred, the schedules and deadlines for all investigative and pre-institution activities would be tolled by the number of days for which the government was shut down. The notice further indicated that the Commission would reconsider schedules after resuming operations.

The Commission was unable to operate from October 1, 2013 to October 16, 2013 because of an absence of appropriations. Accordingly, all statutory deadlines pertaining to activities conducted under the authority of Title VII of the Tariff Act of 1930 (including antidumping and countervailing duty investigations and reviews) will be tolled 16 calendar days. Additionally, the Commission is revising its schedules for individual proceedings to reflect the tolling of deadlines, which, unless otherwise indicated, have been extended 16 calendar days. Individual case schedules will be revised and posted on the Commission's Web site (www.usitc.gov) and separate Federal Register notices will be issued where appropriate.

The Commission's new scheduled dates for conferences in preliminary phase investigations and submission of postconference briefs are as follows:

Investigation | Conference | Postconference brief
Investigation Nos. 701-TA-503-504 and 731-TA-1229-1230 (Preliminary): Monosodium Glutamate from China and Indonesia | October 23, 2013, 9:30 a.m | October 28, 2013.
Investigation Nos. 701-TA-505 and 731-TA-1231-1237 (Preliminary): Grain-Oriented Electrical Steel from China, Czech Republic, Germany, Japan, Korea, Poland, and Russia | October 25, 2013, 9:00 a.m | October 30, 2013.
Investigation Nos. 701-506-508 and 731-1238- 1243 (Preliminary): Non-Oriented Electrical Steel from China, Germany, Japan, Korea, Sweden, and Taiwan | November 6, 2013, 9:30 a.m | November 12, 2013.

Authority: The activities referenced in this notice are being conducted under authority of title VII of the Tariff Act of 1930; this notice is published pursuant to section 207.21 of the Commission's rules.

By order of the Commission.
Issued: October 21, 2013.
Lisa R. Barton,
Acting Secretary to the Commission.

[FR Doc. 2013-25082 Filed 10-24-13; 8:45 am]

BILLING CODE 7020-02-P